DEPARTMENT OF TRANSPORTATION

Federal Aviation Administration

14 CFR Part 39

[Docket No. FAA-2012-0881; Directorate Identifier 2012-CE-029-AD; Amendment 39-17164; AD 2012-17-01]

RIN 2120-AA64

Airworthiness Directives; Goodyear Aviation Tires

AGENCY: Federal Aviation Administration (FAA), DOT.

ACTION: Final rule; request for comments.

SUMMARY: We are adopting a new airworthiness directive (AD) for Goodyear Aviation Tires, part number 299K63-1 (Brazilian made new tires only), installed on various transport category airplanes, including but not limited to Bombardier, Inc. Model CL-600-2B19 airplanes. This AD results from mandatory continuing airworthiness information (MCAI) issued by the aviation authority of another country to identify and correct an unsafe condition on an aviation product. The MCAI describes the unsafe condition as tire tread separations and tread-area bulges on the main landing gear tires due to low adhesion in the tread shoulder area. The unsafe condition is specific to Brazilian produced new tires, size H29x9.0-15, only; retread tires are not affected by this AD. This condition, if not detected and corrected, could cause the main landing gear tires to fail during takeoff or landing. The failure may cause damage to the airplane structure, flaps, engine, and wheel well and result in reduced controllability of the airplane. We are issuing this AD to require actions to address the unsafe condition on these products.

DATES: This AD is effective September 13, 2012.

The Director of the Federal Register approved the incorporation by reference of a certain publication listed in the AD as of September 13, 2012.

We must receive comments on this AD by October 15, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this AD, contact Goodyear Aviation, ATTN: Richard McKenna—Product Support Manager (North America), 100 Business Center Drive, Stockbridge, GA 30281; phone: (678) 364-8956; fax: (678) 284-6101; email: rich_mckenna@goodyear.com; Internet: www.goodyearaviation.com. You may review copies of the referenced service information at the FAA, Small Airplane Directorate, 901 Locust, Kansas City, Missouri 64106. For information on the availability of this material at the FAA, call (816) 329-4148.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (telephone (800) 647-5527) is in the ADDRESSES section. Comments will be available in the AD docket shortly after receipt.

FOR FURTHER INFORMATION CONTACT: Samuel Belete, Aerospace Engineer, FAA, Atlanta Aircraft Certification Office, 1701 Columbia Avenue, College Park, Georgia 30337; phone: (404) 474-5580; fax: (404) 474-5606; email: samuel.belete@faa.gov.

SUPPLEMENTARY INFORMATION:

Discussion

The Agência Nacional de Aviação Civil (ANAC), which is the aviation authority for Brazil, has issued Brazilian Airworthiness Directive 2012-05-01, dated June 5, 2012 (referred to after this as “the MCAI”), to correct an unsafe condition for the specified products. The MCAI states:

This AD was prompted by reports of tread separations and tread-area bulges on the main landing gear tire. The ANAC is issuing this AD to prevent tread separation from the main landing gear tire during takeoff or landing, which could result in structural damage to the airplane, damage to the flaps, engine, wheel well, and consequent reduced controllability of the airplane on the runway or in the air.

The MCAI requires replacing all affected tires and prohibits any future installation of the affected tires. You may obtain further information by examining the MCAI in the AD docket.

Relevant Service Information

Goodyear Aviation has issued Service Bulletin 2012-32-001, dated April 19, 2012. The actions described in this service information are intended to correct the unsafe condition identified in the MCAI.

FAA's Determination and Requirements of the AD

This product has been approved by the aviation authority of another country, and is approved for operation in the United States. Pursuant to our bilateral agreement with this State of Design Authority, they have notified us of the unsafe condition described in the MCAI and service information referenced above. We are issuing this AD because we evaluated all information provided by the State of Design Authority and determined the unsafe condition exists and is likely to exist or develop on other products of the same type design.

FAA's Determination of the Effective Date

An unsafe condition exists that requires the immediate adoption of this AD. The FAA has found that the risk to the flying public justifies waiving notice and comment prior to adoption of this rule because failure of the main landing gear tires during takeoff or landing could cause damage to the airplane structure, flaps, engine, wheel well and may result in reduced controllability of the airplane. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2012-0881; Directorate Identifier 2012-CE-029-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD will affect about 3,400 tires potentially installed on products of U.S. registry. We also estimate that it would take about 3 work-hours per product to comply with the basic requirements of this AD. The average labor rate is $85 per work-hour. Required parts would cost about $2,000 per product.

Based on these figures, we estimate the cost of the AD on U.S. operators to be $7,667,000, or $2,255 per product.

According to the manufacturer, some of the costs of this AD may be covered on a one-to-one basis as noted in Goodyear Aviation Service Bulletin 2012-32-001, dated April 19, 2012, thereby reducing the cost impact on affected individuals. We do not control warranty or exchange coverage for affected operators. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2012-17-01 Goodyear Aviation Tires: Amendment 39-17164; Docket No. FAA-2012-0881; Directorate Identifier 2012-CE-029-AD.

(a) Effective Date

This airworthiness directive (AD) becomes effective September 13, 2012.

(b) Affected ADs

None.

(c) Applicability

This AD applies to the following new Goodyear Aviation Tires (retreads are not affected by this AD), installed on various transport category airplanes, including but not limited to Bombardier, Inc. Model CL-600-2B19 airplanes:

(1) New tire part number (P/N) 299K63-1 with the following specifications:

(i) Tire size: H29x9.0-15;

(ii) Ply rating: 16PR; and

(iii) Speed rating: 210 miles per hour.

(2) Serial numbers (S/N) 01867xxx through 02737xxx with the following specifications:

(i) The 5th digit of the serial number must be a “7”; and

(ii) “XXX” can be any combination of three single digit numbers.

(d) Subject

Air Transport Association of America (ATA) Code 32: Landing gear.

(e) Reason

This AD was prompted by mandatory continuing airworthiness information (MCAI) issued by the aviation authority of another country to identify and correct an unsafe condition on an aviation product. The MCAI describes the unsafe condition as tire tread separations and tread-area bulges on the main landing gear tires due to low adhesion in the tread should area. We are issuing this AD to prevent failure of the main landing gear tires during takeoff or landing, which could cause damage to the airplane structure, flaps, engine, and wheel well and result in reduced controllability of the airplane.

(f) Actions and Compliance

Unless already done, do the following actions in accordance with Goodyear Aviation Service Bulletin 2012-32-001, dated April 19, 2012.

(1) Within the next 5 flight cycles (landings) after September 13, 2012 (the effective date of this AD), inspect the main landing gear tires, P/N 299K63-1, to determine if an affected S/N tire, as specified in paragraph (c) of this AD, is installed. A review of the airplane maintenance records is acceptable in lieu of this inspection if the P/N and S/N of the tires installed can be positively determined from that review. Operators that do not maintain landing records can determine the number of landings by dividing the number of airplane hours time-in-service (TIS) by two.

(2) Before further flight after the inspection required in paragraph (f)(1) of this AD, replace any tire that has an affected serial number.

(3) As of September 13, 2012 (the effective date of this AD), do not install any main landing gear tire, P/N 299K63-1, that has an affected serial number specified in paragraph (c)(2) of this AD.

(g) Other FAA AD Provisions

The following provisions also apply to this AD:

(1) Alternative Methods of Compliance (AMOCs): The Manager, Atlanta Aircraft Certification Office (ACO), FAA, has the authority to approve AMOCs for this AD, if requested using the procedures found in 14 CFR 39.19. Send information to ATTN: Samuel Belete, Aerospace Engineer, FAA, Atlanta ACO, 1701 Columbia Avenue, College Park, Georgia 30337; phone: (404) 474-5580; fax: (404) 474-5606; email: samuel.belete@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, a federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(h) Special Flight Permit

We are allowing a one-time special flight permit to return the airplane to a suitable maintenance base provided a detailed inspection of the main landing gear tires is done and no tread separation or bulge is detected.

(i) Related Information

Refer to MCAI Agência Nacional de Aviação Civil (ANAC) Brazilian Airworthiness Directive 2012-05-01, dated June 5, 2012, and Goodyear Aviation Service Bulletin 2012-32-001, dated April 19, 2012, for related information.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Goodyear Aviation Service Bulletin 2012-32-001, dated April 19, 2012.

(ii) Reserved.

(3) For Goodyear Aviation Tires service information identified in this AD, contact Goodyear Aviation, ATTN: Richard McKenna—Product Support Manager (North America), 100 Business Center Drive, Stockbridge, GA 30281; phone: (678) 364-8956; fax: (678) 284-6101; email: rich_mckenna@goodyear.com.

(4) You may view this service information at FAA, Small Airplane Directorate, 901 Locust, Kansas City, Missouri 64106. For information on the availability of this material at the FAA, call (816) 329-4148.

(5) You may view this service information that is incorporated by reference at the National Archives and Records Administration (NARA). For information on the availability of this material at NARA, call 202-741-6030, or go to: http://www.archives.gov/federal-register/cfr/index.html.

Issued in Kansas City, Missouri, on August 16, 2012.
Earl Lawrence,
Manager, Small Airplane Directorate, Aircraft Certification Service.

[FR Doc. 2012-20696 Filed 8-28-12; 8:45 am]

BILLING CODE 4910-13-P